DEPARTMENT OF STATE

[Public Notice 6699]

60-Day Notice of Proposed Information Collection: DS-3032, Choice of Address and Agent for Immigrant Visa Applicants, OMB No. 1405-0126

AGENCY: State Department.

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Choice of Address and Agent for Immigrant Visa Applicants.

• OMB Control Number: 1405-0126.

• Type of Request: Extension of Currently Approved Collection.

• Originating Office: Bureau of Consular Affairs, Office of Visa Services.

• Form Number: DS-3032.

• Respondents: All immigrant visa applicants.

• Estimated Number of Respondents: 330,000.

• Estimated Number of Responses: 330,000.

• Average Hours Per Response: 10 minutes.

• Total Estimated Burden: 55,000 hours.

• Frequency: Once per application.

• Obligation to Respond: Required to obtained benefit.

DATES: The Department will accept comments from the public up to 60 days from July 16, 2009.

ADDRESSES: You may submit comments by any of the following methods:

• E-mail: VisaRegs@state.gov (Subject line must read DS-3032 Reauthorization).

• Mail (paper, disk, or CD-ROM submissions): Chief, Legislation and Regulation Division, Visa Services—DS-3032 Reauthorization, 2401 E. Street, NW., Washington, DC 20520-30106.

• Fax: (202) 663-3898.

You must include the DS form number (if applicable), information collection title, and OMB control number in any correspondence.

FOR FURTHER INFORMATION CONTACT: Direct requests for additional information regarding the collection listed in this notice, including requests for copies of the proposed information collection and supporting documents, to Lauren Prosnik of the Office of Visa Services, U.S. Department of State, 2401 E. Street, NW., L-603, Washington, DC 20522, who may be reached at (202) 663-2951.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

When an approved immigrant visa petition is received at the National Visa Center (NVC) and is determined to be current for processing, NVC will send the petition beneficiary Form DS-3032, which allows the beneficiary to choose an agent to receive mailings from NVC and assist in the paperwork or paying required fees. The applicant is not required to choose an agent and may have all mailings sent to an address abroad. However, the alien's case will be held at NVC until the signed form is returned. If the form is not returned within one year, NVC will begin the case termination process. DS-3032 is not required if a G-28 (Notice of Entry of Appearance as Attorney or Representative) is received from DHS and the attorney is the agent, the alien is self-petitioning, or a child is being adopted. Once the form has been signed and returned to NVC the applicant process will proceed.

Methodology

DS-3032 will be submitted via mail to the National Visa Center.

Dated: May 28, 2009.
David T. Donahue,
Deputy Assistant Secretary, Bureau of Consular Affairs, Department of State.

[FR Doc. E9-16936 Filed 7-15-09; 8:45 am]

BILLING CODE 4710-06-P